ENVIRONMENTAL PROTECTION AGENCY

[FRL-10000-32-OAR]

Production of Confidential Business Information in Civil Litigation; Transfer of Information Claimed as Confidential Business Information to the United States Department of Justice and Parties to Certain Litigation

AGENCY: Environmental Protection Agency (EPA)

ACTION: Notice.

SUMMARY: The U.S. Environmental Protection Agency (EPA) is providing notice of disclosure of information which has been submitted to the EPA by owners/operators of oil and natural gas facilities that is claimed to be, or has been determined to be, confidential business information (CBI), in civil litigation styled State of New York. et al. v. EPA, No. 18-cv-773, pending in the United States District Court for the District of Columbia (Litigation). Disclosure is in response to discovery requests from Plaintiffs in this Litigation. The court has entered a Protective Order applicable to all parties that governs the treatment of CBI during and after this Litigation.

DATES: Access by the United States Department of Justice (DOJ) and/or the parties to this Litigation to material, including CBI, discussed in this document, will be ongoing and expected to continue during the Litigation.

FOR FURTHER INFORMATION CONTACT: Interested parties may contact Ms. Penny Lassiter, Office of Air Quality Planning and Standards, Sector Policies and Programs Division (D205-01), Environmental Protection Agency, Research Triangle Park, North Carolina 27711; telephone number: (888) 372-8696; email address: icr@epa.gov.

SUPPLEMENTARY INFORMATION:

I. Does this action apply to me?

Entities potentially affected by this action include owners/operators of oil and natural gas facilities who have submitted information to the EPA that is claimed to be, or has been determined to be, CBI. There are several industry segments that may be considered oil and natural gas facilities. Those facilities that may be affected by this action include the following industry segments: Onshore petroleum and natural gas production, onshore petroleum and natural gas gathering and boosting, onshore natural gas processing, onshore natural gas transmission compression, onshore natural gas transmission pipelines, underground natural gas storage, liquified natural gas (LNG) storage, and LNG import and export equipment.

The table below presents some examples of potentially affected entities according to the North American Industry Classification System (NAICS) code. This table is not intended to be exhaustive, but rather provides a guide for readers regarding entities that may be impacted by this action. Other types of entities not listed in the table could also be impacted. If you have any questions regarding the applicability of this action, consult the person listed in the FOR FURTHER INFORMATION CONTACT section.

Category | NAICS Codes | Examples of potentially affected entities
Petroleum and Natural Gas Systems. | 211111 | Crude petroleum and natural gas extraction.
| 211112 | Natural gas liquid extraction.
| 221210 | Natural gas distribution.
| 486110 | Pipeline distribution of crude oil.
| 486210 | Pipeline transportation of natural gas.

II. Action Description

The Plaintiffs filed this action to compel the EPA “to comply with the nondiscretionary duty under the Clean Air Act (Act) to establish guidelines for limiting methane emissions from existing sources in the oil and natural gas sector, thereby remedying EPA's unreasonable delay in establishing such emission guidelines.” New York et al. v. EPA, No. 1:18-cv-773, ECF Document No. 1 at 1 (D.D.C.). Plaintiffs in this action include the following: State of California, State of Connecticut, State of Illinois, State of Iowa, State of Maine, State of Maryland, Commonwealth of Massachusetts, State of New Mexico, State of Oregon, Commonwealth of Pennsylvania, State of Rhode Island, State of Vermont, State of Washington, District of Columbia, City of Chicago, and the Environmental Defense Fund (Plaintiff-Intervenor). Notice is being provided, pursuant to 40 CFR 2.209(d), to inform affected businesses that the EPA intends to transmit certain information which has been submitted by owners/operators of oil and natural gas facilities that is claimed to be, or has been determined to be, CBI, to the parties in this Litigation. The information includes communications with, and information provided by owners/operators of, oil and natural gas facilities in connection with the Information Collection Request (ICR) that the EPA issued to the oil and natural gas industry in 2016. See https://www.epa.gov/controlling-air-pollution-oil-and-natural-gas-industry/oil-and-natural-gas-information-collection. Such information includes, but is not limited to, information submitted during development of the ICR (including the two rounds of public comment); information submitted in response to the ICR letter, including data (e.g., completed surveys); questions about the ICR; and/or requests to the EPA for an exemption from or an extension of the deadlines for responding to the ICR.

The treatment of this information is governed by the Protective Order entered into by the parties to this Litigation. Interested third parties may find the Protective Order in the docket for the Litigation. New York et al. v. EPA, No. 1:18-cv-773, ECF Document No. 53 (D.D.C.). The Protective Order governs the distribution of CBI, limits its use to this Litigation, and provides for its return or destruction at the conclusion of the Litigation. In accordance with 40 CFR 2.209(c)-(d), DOJ must disclose such information to the extent required to comply with the discovery obligations of the EPA in this Litigation, including its obligations under the Protective Order.

Dated: September 12, 2019.
Anne L. Idsal,
Acting Assistant Administrator, Office of Air and Radiation.

[FR Doc. 2019-20930 Filed 9-25-19; 8:45 am]

BILLING CODE 6560-50-P